DEPARTMENT OF COMMERCE

National Oceanic and Atmospheric Administration

RIN 0648-XG683

Endangered and Threatened Species; Take of Anadromous Fish

AGENCY: National Marine Fisheries Service (NMFS), National Oceanic and Atmospheric Administration (NOAA), Commerce.

ACTION: Notice of issuance; Three Endangered Species Act section 10(a)(1)(A) permits to enhance the propagation and survival of endangered and threatened species.

SUMMARY: This advises the public that three direct-take permits have been issued for research and enhancement purposes in the San Joaquin River Basin, Central Valley, California. Permit 16608-2R has been issued to the U.S. Bureau of Reclamation for implementation of the San Joaquin Steelhead Monitoring Program. Permit 21477 has been issued to FISHBIO Environmental, LLC for implementation of the Stanislaus Native Fish Plan. Permit 20571 has been issued to the U.S. Fish and Wildlife Service for implementation of one Hatchery and Genetic Management Plan associated with the San Joaquin River Restoration Program's (SJRRP) Salmon Conservation and Research Facility, operating to reintroduce Central Valley spring-run Chinook salmon to the San Joaquin River.

DATES: Permit 16608-2R was issued on October 17, 2017 with an expiration date of December 31, 2022. Permit 21477 was issued on May 23, 2018 with an expiration date of December 31, 2022. Permit 20571 was issued on September 10, 2018 with an expiration date of December 31, 2023. The issued permits are subject to certain conditions set forth therein. Subsequent to issuance, the necessary countersignatures by the applicants were received.

ADDRESSES: Requests for copies of the decision documents or any of the other associated documents should be directed to NOAA's National Marine Fisheries Service, California Central Valley Office, 650 Capitol Mall, Suite 5-100, Sacramento, California 95814. The decision documents for Permit 20571 are also available online at: http://www.westcoast.fisheries.noaa.gov/hatcheries/salmon_and_steelhead_hatcheries.html.

FOR FURTHER INFORMATION CONTACT: Amanda Cranford, Sacramento, California (Phone: 916-930-3706; Fax: 916-930-3629; email: Amanda.Cranford@noaa.gov).

SUPPLEMENTARY INFORMATION: This notice is relevant to the following species and evolutionarily significant units/distinct population segments (DPS):

Chinook salmon (Oncorhynchus tshawytscha): Threatened, naturally produced and artificially propagated Central Valley spring-run;

Steelhead trout (Oncorhynchus mykiss): Threatened, naturally produced and artificially propagated California Central Valley;

North American green sturgeon (Acipenser medirostris): Threatened, naturally produced Southern DPS.

Dated: December 21, 2018.
Catherine Marzin,
Deputy Director, Office of Protected Resources, National Marine Fisheries Service.

[FR Doc. 2018-28405 Filed 12-28-18; 8:45 am]

BILLING CODE 3510-22-P